DEPARTMENT OF HOUSING AND URBAN DEVELOPMENT

[Docket No. FR-5100-FA-15]

Announcement of Funding Awards for Fiscal Year 2007 for the Housing Choice Voucher Program

AGENCY: Office of the Assistant Secretary for Public and Indian Housing, HUD.

ACTION: Announcement of Fiscal Year 2007 awards.

SUMMARY: In accordance with Section 102(a)(4)(C) of the Department of Housing and Urban Development Reform Act of 1989, this document notifies the public of funding awards for Fiscal Year (FY) 2007 to housing agencies (HAs) under the Section 8 housing choice voucher program. The purpose of this notice is to publish the names, addresses, and the amount of the awards to HAs for non-competitive funding awards for housing conversion actions, public housing relocations and replacements, moderate rehabilitation replacements, and HOPE VI voucher awards.

FOR FURTHER INFORMATION CONTACT: David A. Vargas, Director, Office of Housing Voucher Programs, Office of Public and Indian Housing, Department of Housing and Urban Development, 451 Seventh Street, SW., Room 4226, Washington, DC 20410-5000, telephone (202) 708-2815. Hearing- or speech-impaired individuals may call HUD's TTY number at (800) 927-7589. (Only the “800” telephone number is toll-free.)

SUPPLEMENTARY INFORMATION: The regulations governing the housing choice voucher program are published at 24 CFR 982. The regulations for allocating housing assistance budget authority under Section 213(d) of the Housing and Community Development Act of 1974 are published at 24 CFR part 791, Subpart D.

The purpose of this rental assistance program is to assist eligible families to pay their rent for decent, safe, and sanitary housing. The FY 2007 awardees announced in this notice were provided Section 8 funds on an as-needed, non-competitive basis, i.e., not consistent with the provisions of a Notice of Funding Availability (NOFAs). Tenant protection voucher awards made to PHAs for program actions that displace families living in public housing were made on a first-come, first-served basis in accordance with the non-competitive awards preference categories announced in PIH Notice 2007-10 Voucher Funding in Connection with the Demolition or Disposition of Occupied Public Housing Units. Announcements of awards provided under the NOFA process for mainstream housing and designated housing programs will be published in a separate Federal Register notice.

Awards published under this notice were provided (1) to assist families living in HUD-owned properties that are being sold; (2) to assist families affected by the expiration or termination of their project-based Section 8 and moderate rehabilitation contracts; (3) to assist families in properties where the owner has prepaid the HUD mortgage; (4) to provide relocation housing assistance in connection with the demolition of public housing; (5) to provide replacement housing assistance for single room occupancy (SRO) units that fail housing quality standards (HQS); and (6) to assist families in public housing developments that are scheduled for demolition in connection with a HUD-approved HOPE VI Revitalization or Demolition Grant. Administrative fees were added to each assignment for the administration of housing choice vouchers awarded under this notice. In addition, special housing fees were included for applicable Housing tenant protection awards.

A total of $149,146,013 in budget authority for 25,292 housing choice vouchers was awarded to recipients under all of the above-mentioned categories. Of the total amount awarded, $3,112,902 is provided from the HOPE VI account.

In accordance with Section 102(a)(4)(C) of the Department of Housing and Urban Development Reform Act of 1989 (103 Stat. 1987, 42 U.S.C. 3545), the Department is publishing the names, addresses, and amounts of those awards as shown in Appendix A.

Dated: January 29, 2008.
Paula O. Blunt,
General Deputy Assistant Secretary for Office of Public and Indian Housing.

Section 8 Rental Assistance Programs Announcement of Awards for Fiscal Year 2007
Housing agency | Address | Units | Award
Public Housing Tenant Protection Moderate Rehabilitation Replacements:
HSG AUTH OF BESSEMER | P.O. BOX 1390, BESSEMER, AL 35021 | 121 | 567,608
HSG AUTH OF NORTHPORT | P.O. DRAWER 349, NORTHPORT, AL 35476 | 26 | 99,913
COUNTY OF LOS ANGELES HSG AUTH | 2 CORAL CIRCLE, MONTEREY PARK | 31 | 281,366
COUNTY OF RIVERSIDE HSG AUTH | 5555 ARLINGTON AVE, RIVERSIDE, CA 92504 | 23 | 139,579
CITY OF OXNARD HSG AUTH | 435 SO D ST, OXNARD, CA 93030 | 8 | 36,127
SAN DIEGO HSG COMMISSION | 1625 NEWTON AVE, SAN DIEGO, CA 92113 | 100 | 703,250
ALAMEDA COUNTY HSG AUTH | 22941 ATHERTON ST, HAYWARD, CA 94541 | 1 | 12,935
BRIDGEPORT HSG AUTH | 150 HIGHLAND AVE, BRIDGEPORT, CT 06604 | 13 | 111,982
WATERBURY HSG AUTH | 2 LAKEWOOD RD, WATERBURY, CT 06704 | 11 | 27,288
ENFIELD HSG AUTH | 17 ENFIELD TERRACE, ENFIELD TOWN, CT 06082 | 1 | 5,834
CITY OF HARTFORD | 550 MAIN ST, HARTFORD, CT 06103 | 13 | 41,883
CONN DEPT OF SOCIAL SERVICES | 25 SIGOURNEY ST, 9TH FL, HARTFORD, CT 06105 | 12 | 68,309
HSG AUTH OF JACKSONVILLE | 1300 BRD ST, JACKSONVILLE, FL 32202 | 84 | 331,014
MIAMI DADE HSG AUTH | 1401 NW 7TH ST, MIAMI, FL 33125 | 130 | 771,151
HA WEST PALM BEACH GEN'L FUND | 1715 DIVISION AVE, WEST PALM BEACH, FL 33407 | 60 | 273,133
CITY OF DES MOINES MUN HSG | 100 EAST EUCLID, STE 101, DES MOINES, IA 50313 | 3 | 5,261
MADISON HSG AUTH | 1609 OLIVE ST, COLLINSVILLE, IL 62234 | 22 | 57,921
LOUISVILLE HSG AUTH | 420 SOUTH EIGHTH ST, LOUISVILLE, KY 40203 | 6 | 17,191
NEW ORLEANS HSG AUTH | 4100 TOURO ST, NEW ORLEANS, LA 70122 | 45 | 211,139
COMM DEV PROG COMM OF MA, EOCD | 100 CAMBRIDGE ST, BOSTON, MA 02114 | 57 | 488,974
HSG AUTH OF BALTIMORE CITY | 417 EAST FAYETTE ST, BALTIMORE, MD 21201 | 50 | 30,441
BALTIMORE COUNTY HSG OFFICE | 6401 YORK RD, 1ST FL, BALTIMORE, MD 21212 | 63 | 308,400
MARYLAND DEPT OF HSG & COMM | 100 COMMUNITY PLACE, CROWNSVILLE, MD 21032 | 4 | 14,144
MAINE STATE HSG AUTH | 353 WATER ST, AUGUSTA, ME 04330 | 19 | 38,571
ST. FRANCOIS COUNTY PH AGENCY | P.O. BOX N, PARK HILLS, MO 63601 | 3 | 11,067
MT DEPARTMENT OF COMMERCE | 301 S. PARK, HELENA, MT 59620 | 9 | 15,042
RALEIGH HSG AUTH | P.O. BOX 28007, RALEIGH, NC 27611 | 3 | 14,106
MINOT HSG AUTH | 108 EAST BURDICK EXPWY, MINOT, ND 58701 | 14 | 23,290
NEW JERSEY DEPT OF COMM AFFAIRS | 101 SOUTH BROAD ST, TRENTON, NJ 08625 | 188 | 857,938
THE CITY OF NEW YORK, DHPD | 100 GOLD ST, RM 501, NEW YORK, NY 10007 | 128 | 868,114
CITY OF BUFFALO | 470 FRANKLIN ST, BUFFALO, NY 14202 | 5 | 16,213
CINCINNATI METRO HSG AUTH | 16 WEST CENTRAL PKWY, CINCINNATI, OH 45210 | 4 | 6,315
MARION COUNTY HSG AUTH | P.O. BOX 14500, SALEM, OR 97309 | 5 | 22,869
HSG AUTH OF JACKSON COUNTY | 2231 TABLE ROCK RD, MEDFORD, OR 97501 | 2 | 3,666
NORTHWEST OREGON HSG AGENCY | 147 SO MAIN AVE, WARRENTON, OR 97146 | 1 | 2,693
HSG AUTH OF THE CITY OF | 200 ROSS ST, PITTSBURGH, PA 15219 | 5 | 22,621
DAUPHIN COUNTY HSG AUTH | 501 MOHN ST, STEELTON, PA 17113 | 5 | 33,351
PUERTO RICO HSG FIN CORP | CALL BOX 71361-GPO, SAN JUAN, PR 00936 | 41 | 171,296
HSG AUTH OF COLUMBIA | 1917 HARDEN ST, COLUMBIA, SC 29204 | 17 | 80,538
CITY OF SPARTANBURG HSG AUTH | P.O. BOX 2828, SPARTANBURG, SC 29304 | 3 | 11,235
HSG AUTH OF LAKE CITY | P.O. BOX 1017, LAKE CITY, SC 29560 | 15 | 63,212
HSG AUTH OR NORTH CHARLESTON | P.O. BOX 70987, NO CHARLESTON, SC 29415 | 17 | 70,977
SC STATE HSG FINANCE & DEV | 300-C OUTLET POINTE BLVD, COLUMBIA, SC 29210 | 25 | 110,655
SIOUX FALLS HSG & REDEV'T | 630 SO MINNESOTA, SIOUX FALLS, SD 57104 | 7 | 24,016
HSG AUTH OF JOHNSON CITY | P.O. BOX 59, JOHNSON CITY, TN 37605 | 15 | 65,457
HSG AUTH OF MORRISTOWN | P.O. BOX 497, MORRISTOWN, TN 37815 | 5 | 12,009
HSG DEV AGENCY ELIZABETHTON | 910 PINE RIDGE CIRCLE, ELIZABETHTON, TN 37643 | 12 | 13,971
HOUSTON HSG AUTH | 2640 FOUNTAIN VIEW, HOUSTON, TX 77057 | 18 | 79,085
MISSION HSG AUTH | 906 E 8TH ST, MISSION, TX 78572 | 9 | 21,568
HSG AUTH OF PARIS | 100 GEORGE W. WRIGHT HOMES, PARIS, TX 75461 | 96 | 358,905
HSG AUTH OF SALT LAKE CITY | 1776 SW TEMPLE, SALT LAKE CITY, UT 84115 | 15 | 54,982
RICHMOND REDEV'T & HSG AUTH | 901 CHAMBERLAYNE PKWY, RICHMOND, VA 23220 | 35 | 42,596
ROANOKE REDEV'T & HSG AUTH | 2624 SALEM TRNPK, NW, ROANOKE, VA 24017 | 5 | 6,499
CHARLOTTESVILLE REDEV'T & HA | 605 EAST MAIN ST, RM A040, CHARLOTTESVILLE, VA 22902 | 21 | 100,413
PETERSBURG REDEV'T & HSG AUTH | 128 SOUTH SYCAMORE ST, PETERSBURG, VA 23803 | 61 | 83,631
VIRGINIA HSG DEV'T AUTH | 601 SOUTH BELVIDERE ST, RICHMOND, VA 23220 | 45 | 26,731
CHARLESTON HSG AUTH | P.O. BOX 86, CHARLESTON, WV 25321 | 1 | 2,691
HSG AUTH OF MINGO COUNTY | P.O. BOX 120, DELBARTON, WV 25670 | 12 | 18,761
Total for Moderate Rehabilitation Replacements |  | 1,750 | $7,959,927
Public Housing Relocations:
HSG AUTH OF HUNTSVILLE | P.O. BOX 486, HUNTSVILLE, AL 35804 | 22 | 65,468
OAKLAND HSG AUTH | 1619 HARRISON ST, OAKLAND, CA 94612 | 75 | 282,219
CITY OF FRESNO HSG AUTH | 1331 FULTON MALL, FRESNO, CA 93776 | 198 | 1,070,673
COUNTY OF MONTEREY HSG AUTH | 123 RICO ST, SALINAS, CA 93907 | 35 | 222,672
SAN DIEGO HSG COMMISSION | 1625 NEWTON AVE, SAN DIEGO, CA 92113 | 1,354 | 251,167
HA OF THE CITY & CO OF DENVER | 777 GRANT ST, DENVER, CO 80203 | 122 | 1,065,520
AURORA HSG AUTH | 10745 E KENTUCKY AVE, AURORA, CO 80012 | 70 | 445,320
ADAMS COUNTY HSG AUTH | 7190 COLORADO BLVD, 6TH FL, COMMERCE CITY, CO 80022 | 15 | 30,687
BOULDER COUNTY HSG AUTH | 2040 14TH ST, BOULDER, CO 80306 | 56 | 124,967
JEFFERSON COUNTY HSG AUTH | 7490 WEST 45TH AVE, WHEATRIDGE, CO 80033 | 65 | 278,206
ANSONIA HSG AUTH | 36 MAIN ST, ANSONIA, CT 06401 | 28 | 85,728
HSG AUTH OF TAMPA | 1514 UNION ST, TAMPA, FL 33607 | 380 | 2,293,863
HSG AUTH OF SARASOTA | 1300 BOULEVARD OF THE ARTS, SARASOTA, FL 34236 | 43 | 88,019
HSG AUTH OF BREVARD COUNTY | 615 KUREK COURT, MERRITT ISLAND, FL 32954 | 70 | 497,570
HSG AUTH OF PALATKA | P.O. BOX 1277, PALATKA, FL 32078 | 45 | 58,189
HSG AUTH COLUMBUS, GA | P.O. BOX 630, COLUMBUS, GA 31902 | 69 | 123,313
HSG AUTH OF ATLANTA, GA | 230 JOHN WESLEY DOBBS AVE, NE, ATLANTA, GA 30303 | 1,182 | 5,889,071
HSG AUTH OF COLLEGE PARK | 2000 W. PRINCETON AVE, COLLEGE PARK, GA 30337 | 20 | 143,665
H/A DEKALB COUNTY | 750 COMMERCE DR, STE 201, DECATUR, GA 30030 | 238 | 1,245,543
IDAHO HSG & FINANCE ASSOC | 565 W MYRTLE ST, BOISE, ID 83707 | 0 | 7,975
MADISON HSG AUTH | 1609 OLIVE ST, COLLINSVILLE, IL 62234 | 34 | 110,147
ROCKFORD HSG AUTH | 223 SO WINNEBAGO ST, ROCKFORD, IL 61102 | 77 | 248,234
HSG AUTH OF JOLIET | 6 SO BRDWAY ST, JOLIET, IL 60436 | 81 | 173,969
LOUISVILLE HSG AUTH | 420 SO EIGHTH ST, LOUISVILLE, KY 40203 | 65 | 111,745
BOSTON HSG AUTH | 52 CHAUNCY ST, BOSTON, MA 02111 | 40 | 664,318
DULUTH HRA | P.O. BOX 16900, DULUTH, MN 55816 | 0 | 10,675
NEWARK HSG AUTH | 57 SUSSEX AVE, NEWARK, NJ 07103 | 0 | 20,701
PATERSON HSG AUTH | 60 VAN HOUTEN ST, PATERSON, NJ 07505 | 323 | 2,098,523
HEMPSTEAD HSG AUTH | 260 CLINTON ST, HEMPSTEAD, NY 11550 | 81 | 526,450
DAYTON METRO HA | 400 WAYNE AVE, DAYTON, OH 45401 | 146 | 608,489
ERIE METRO HSG AUTH | 322 WARREN ST, SANDUSKY, OH 44870 | 21 | 91,043
HSG AUTH OF JACKSON COUNTY | 2231 TABLE ROCK RD, MEDFORD, OR 97501 | 22 | 39,406
HSG AUTH OF WASHINGTON | 111 NE LINCOLN ST, STE 200-L, MS63, HILLSBORO, OR 97124 | 18 | 41,349
HSG AUTH OF PITTSBURGH | 200 ROSS ST, PITTSBURGH, PA 15219 | 111 | 139,825
HSG AUTH OF JACKSON | P.O. BOX 3188, JACKSON, TN 38301 | 95 | 134,506
MCALLEN HSG AUTH | 2301 JASMINE AVE, MCALLEN, TX 78501 | 73 | 160,786
HSG AUTH CITY OF DONNA | P.O. BOX 667, DONNA, TX 78537 | 20 | 68,022
HSG AUTH OF SALT LAKE CITY | 1776 SW TEMPLE, SALT LAKE CITY, UT 84115 | 313 | 796,563
SEATTLE HSG AUTH | 120 SIXTH AVE NO, SEATTLE, WA 98109 | 18 | 50,243
KING COUNTY HSG AUTH | 600 ANDOVER PARK WEST, SEATTLE, WA 98188 | 324 | 1,151,383
Total for Public Housing Relocations |  | 5,939 | $21,516,212
Public Housing Relocations Resulting from Disasters:
NEW ORLEANS HSG AUTH | 4100 TOURO ST, NEW ORLEANS, LA 70122 | 2,987 | 8,045,723
MISS REGIONAL H/A VIII | P.O. BOX 2347, GULFPORT, MS 39505 | 733 | 1,621,986
JACKSON HSG AUTH | 2747 LIVINGSTON RD, JACKSON, MS 39283 | 110 | 538,155
THE BAY WAVELAND HSG AUTH | P.O. BOX 2219, BAY ST. LOUIS, MS 39521 | 15 | 21,878
Total for Public Housing Relocations Resulting from Disasters |  | 3,845 | $10,227,742
Single RM Occupancy (SRO) Replacements:
IDAHO HSG AND FINANCE ASSOC | 565 W MYRTLE ST, BOISE, ID 83707 | 12 | 42,149
DULUTH HRA | P.O. BOX 16900, DULUTH, MN 55816 | 38 | 94,858
NEWARK HSG AUTH | 57 SUSSEX AVE, NEWARK, NJ 07103 | 21 | 178,973
Total for Single Room Occupancy (SRO) Replacements |  | 71 | $315,980
Witness Relocation:
BARNSTABLE HSG AUTH | 146 SO ST, HYANNIS, MA 02601 | 1 | 9,395
MONTGOMERY CO HSG AUTH | 10400 DETRICK AVE, KENSINGTON, MD 20895 | 3 | 42,998
HSG AUTH PRINCE GEORGE'S COUNTY | 9400 PEPPERCORN PLACE, STE 200, LARGO, MD 20774 | 4 | 70,912
MUNICIPALITY OF AGUADILLA | P.O. BOX 1008, AGUADILLA, PR 00605 | 1 | 6,705
Total for Witness Relocation |  | 9 | $130,010
Total for Public Housing Tenant Protection |  | 11,614 | $40,149,871
Housing Tenant Protection Preservations/Prepayments:
MOBILE HSG BOARD | P.O. BOX 1345, MOBILE, AL 36633 | 64 | 370,133
DOTHAN HSG AUTH | P.O. BOX 1727, DOTHAN, AL 36302 | 100 | 480,652
HSG AUTH OF DECATUR | P.O. BOX 878, DECATUR, AL 35602 | 80 | 358,775
BENTON PUBLIC HSG AUTH | 1200 WEST PINE ST, BENTON, AR 72015 | 8 | 42,394
WATERBURY HSG AUTH | 2 LAKEWOOD RD, WATERBURY, CT 06704 | 34 | 284,280
CONN DEPT OF SOCIAL SERVICES | 25 SIGOURNEY ST, 9TH FL, HARTFORD, CT 06105 | 372 | 3,618,533
D.C. HSG AUTH | 1133 NO CAPITOL ST, NE, WASHINGTON, DC 20002 | 82 | 1,039,721
DELAWARE STATE HSG AUTH | 18 THE GREEN, DOVER, DE 19901 | 3 | 18,231
ST. PETERSBURG H/A | 3250 5TH AVE NO, ST. PETERSBURG, FL 33713 | 207 | 1,625,720
HSG AUTH OF TALLAHASSEE | 2940 GRADY RD, TALLAHASSEE, FL 32312 | 41 | 312,261
HSG AUTH OF MACON | 2015 FELTON AVE, MACON, GA 31208 | 47 | 275,580
WATERLOO HSG AUTH | 620 MULBERRY ST, STE 102, WATERLOO, IA 50703 | 16 | 83,150
IDAHO HSG & FINANCE ASSOC | 565 W MYRTLE ST, BOISE, ID 83707 | 39 | 203,007
WAUKEGAN HSG AUTH | 215 S. MARTIN LUTHER KING, JR. AVE, WAUKEGAN, IL 60085 | 125 | 1,082,695
ST CLAIR COUNTY HSG AUTH | 1790 SO 74TH ST, BELLEVILLE, IL 62223 | 0 | 15,800
OLATHE HSG AUTH | 300 W. CHESTNUT, OLATHE, KS 66061 | 87 | 526,063
LOUISVILLE HSG AUTH | 420 SO EIGHTH ST, LOUISVILLE, KY 40203 | 50 | 353,632
LEXINGTON FAYETTE URBAN CO | 300 NEW CIRCLE RD, LEXINGTON, KY 40505 | 180 | 84,745
LEXINGTON-FAYETTE COUNTY HSG | 300 NEW CIRCLE RD, LEXINGTON, KY 40505 | 0 | 43,250
KENTUCKY HSG CORP | 1231 LOUISVILLE RD, FRANKFORT, KY 40601 | 50 | 228,272
RUSTON (CITY) SEC. 8 HSG. AGENCY | P.O. BOX 2069, RUSTON, LA 71273 | 57 | 285,349
SPRINGFIELD HSG AUTH | 25 SAAB COURT, SPRINGFIELD, MA 01101 | 42 | 303,633
SALEM HSG AUTH | 27 CHARTER ST, SALEM, MA 01970 | 223 | 2,288,791
COMM DEV PROG COMM OF MA, E.O.C.D. | 100 CAMBRIDGE ST, BOSTON, MA 02114 | 79 | 971,706
HSG AUTH OF BALTIMORE CITY | 417 EAST FAYETTE ST, BALTIMORE, MD 21201 | 152 | 1,135,838
HSG AUTH PRINCE GEORGE'S COUNTY | 9400 PEPPERCORN PLACE, STE 200, LARGO, MD 20774 | 25 | 309,138
YPSILANTI HSG COMMISSION | 601 ARMSTRONG DR, YPSILANTI, MI 48197 | 19 | 162,650
LIVONIA HSG COMMISSION | 19300 PURLINGBROOK RD, LIVONIA, MI 48152 | 46 | 376,333
FERNDALE HSG COMMISSION | 415 WITHINGTON, FERNDALE, MI 48220 | 56 | 377,776
DOWAGIAC HSG COMMISSION | 100 CHESTNUT ST, DOWAGIAC, MI 49047 | 13 | 58,698
MICHIGAN STATE HSG DEV AUTH | P.O. BOX 30044, LANSING, MI 48909 | 369 | 2,292,937
WINONA HRA | 1756 KRAEMER DR, STE #100, WINONA, MN 55987 | 23 | 104,249
WORTHINGTON HRA | 819 TENTH ST, WORTHINGTON, MN 56187 | 35 | 123,180
HSG AUTH OF THE CITY OF | 502 S 10TH ST, ST JOSEPH, MO 64502 | 60 | 246,782
PLEASANTVILLE HSG AUTH | 156 NO MAIN ST, PLEASANTVILLE, NJ 08232 | 70 | 627,427
THE MUNICIPAL HSG AUTH | 1511 CENTRAL PARK AVE, YONKERS, NY 10710 | 178 | 1,956,603
ALBANY HSG AUTH | 200 SO PEARL, ALBANY, NY 12202 | 289 | 1,519,828
VILLAGE OF NYACK HSG AUTH | 15 HIGHVIEW COURT, NYACK, NY 10960 | 55 | 618,517
CITY OF POUGHKEEPSIE | P.O. BOX 300, POUGHKEEPSIE, NY 12602 | 11 | 87,557
NEW YORK STATE HSG FIN | 25 BEAVER ST, RM 674, NEW YORK, NY 10004 | 139 | 882,702
NEW YORK STATE HSG FIN | 25 BEAVER ST, RM 732, NEW YORK, NY 10004 | 1,665 | 18,519,054
AKRON METRO HSG AUTH | 100 W. CEDAR ST, AKRON, OH 44307 | 143 | 938,235
ERIE METRO HSG AUTH | 322 WARREN ST, SANDUSKY, OH 44870 | 19 | 103,669
PORTAGE METRO HSG AUTH | 2832 STATE ROUTE 59, RAVENNA, OH 44266 | 18 | 121,086
OKLAHOMA HSG FIN AGENCY | P.O. BOX 26720, OKLAHOMA CITY, OK 73126 | 267 | 1,522,628
WOONSOCKET HSG AUTH | 679 SOCIAL ST, WOONSOCKET, RI 02895 | 17 | 135,294
RHODE ISLAND HSG MORT FIN CORP | 44 WASHINGTON ST, PROVIDENCE, RI 02903 | 95 | 763,899
TENNESSEE HSG DEV AGENCY | 404 J. ROBERTSON PKWY, STE 1114, NASHVILLE, TN 37243 | 52 | 300,061
SAN ANTONIO HSG AUTH | 818 S. FLORES ST, SAN ANTONIO, TX 78295 | 5 | 34,844
CORPUS CHRISTI HSG AUTH | 3701 AYERS ST, CORPUS CHRISTI, TX 78415 | 74 | 528,659
TARRANT COUNTY HSG ASSISTANCE | 2100 CIRCLE DR, STE 200, FORT WORTH, TX 76119 | 63 | 466,283
VIRGINIA HSG DEV'T AUTH | 601 SO BELVIDERE ST, RICHMOND, VA 23220 | 79 | 578,922
SEATTLE HSG AUTH | 120 SIXTH AVE NO, SEATTLE, WA 98109 | 15 | 170,475
HSG AUTH OF CITY OF TACOMA | 902 SO “L” ST, STE 2C, TACOMA, WA 98405 | 19 | 145,490
KELSO HSG AUTH | 1415 S 10TH, KELSO, WA 98626 | 0 | 300
WAUSAU CDA | 550 EAST THOMAS ST, WAUSAU, WI 54403 | 40 | 136,510
Total for Preservations/Prepayments |  | 6,097 | $50,241,997
Property Disposition Relocations:
ELLIS COUNTY HSG AUTH | P.O. BOX 1016, HAYS, KS 67601 | 16 | 54,077
KENTUCKY HSG CORPORATION | 1231 LOUISVILLE RD, FRANKFORT, KY 40601 | 19 | 86,301
HSG AUTH OF SYRACUSE | 516 BURT ST, SYRACUSE, NY 13202 | 232 | 1,403,823
TULSA HSG AUTH | P.O. BOX 6369, TULSA, OK 74148 | 55 | 344,425
PHILADELPHIA HSG AUTH | 12 SO 23RD ST, PHILADELPHIA, PA 19103 | 110 | 1,003,195
Total for Property Disposition Relocations |  | 432 | $2,891,821
Rent Supplements:
CITY OF DES MOINES MUN HSG | 100 EAST EUCLID, STE 101, DES MOINES, IA 50313 | 3 | 16,612
NORTH IOWA REGIONAL HSG AUTH | 202 1ST ST SE, STE 203, MASON CITY, IA 50401 | 2 | 7,023
HSG AUTH OF BILLINGS | 2415 1ST AVE NO, BILLINGS, MT 59101 | 6 | 33,755
MT DEPARTMENT OF COMMERCE | 301 S. PARK, HELENA, MT 59620 | 1 | 4,774
LINN-BENTON HSG AUTH | 1250 SE QUEEN AVE, ALBANY, OR 97322 | 8 | 48,860
BROOKINGS HSG & REDEV'T | 1310 MAIN AVE. SO, BROOKINGS, SD 57006 | 30 | 158,684
Total for Rent Supplements |  | 50 | $269,708
Terminations and Optouts:
AK HSG FINANCE CORP | P.O. BOX 101020, ANCHORAGE, AK 99510 | 54 | 405,443
CITY OF PHOENIX | 251 W. WASHINGTON ST, PHOENIX, AZ | 68 | 537,627
COUNTY OF LOS ANGELES HSG AUTH | 2 CORAL CIRCLE, MONTEREY PARK, CA | 166 | 1,801,040
OAKLAND HSG AUTH | 1619 HARRISON ST, OAKLAND, CA 94612 | 100 | 1,461,116
CITY OF FRESNO HSG AUTH | 1331 FULTON MALL, FRESNO, CA 93776 | 195 | 1,229,271
HSG AUTH COUNTY OF KERN | 601 24TH ST, BAKERSFIELD, CA 93301 | 93 | 492,609
COUNTY OF RIVERSIDE HSG AUTH | 5555 ARLINGTON AVE, RIVERSIDE, CA 92504 | 125 | 1,030,210
YOLO COUNTY HSG AUTH | P.O. BOX 1867, WOODLAND, CA 95776 | 21 | 139,194
SAN DIEGO HSG COMMISSION | 1625 NEWTON AVE, SAN DIEGO, CA 92113 | 137 | 1,503,140
CITY OF HAWTHORNE HSG AUTH | 4455 W 126TH ST, HAWTHORNE, CA 90250 | 27 | 250,379
EAST HARTFORD HSG AUTH | 546 BURNSIDE AVE, EAST HARTFORD, CT 06108 | 119 | 1,002,780
D.C. HSG AUTH | 1133 NO CAPITOL ST, NE, WASHINGTON, DC 20002 | 318 | 4,035,607
NEW CASTLE COUNTY HSG AUTH | 87 READ'S WAY, NEW CASTLE, DE 19720 | 99 | 958,273
HSG AUTH OF DAYTONA BEACH | 211 N. RIDGEWOOD AVE, STE 200, DAYTONA BEACH, FL 32114 | 10 | 66,098
HA WEST PALM BEACH GEN FUND | 1715 DIVISION AVE, WEST PALM BEACH, FL 33407 | 84 | 744,002
CITY OF LAKELAND HSG AUTH | 430 S. HARTSELL AVE, LAKELAND, FL 33815 | 42 | 224,636
HIALEAH HSG AUTH | 75 EAST 6TH ST, HIALEAH, FL 33010 | 86 | 738,327
HSG AUTH OF TALLAHASSEE | 2940 GRADY RD, TALLAHASSEE, FL 32312 | 26 | 194,059
HSG AUTH OF SAVANNAH | 200 EAST BRD ST, SAVANNAH, GA 31402 | 28 | 190,147
HSG AUTH OF ATLANTA, GA | 230 JOHN WESLEY DOBBS AVE, NE, ATLANTA, GA 30303 | 498 | 4,922,998
FORT DODGE HSG AGENCY | 700 SO 17TH ST, FORT DODGE, IA 50501 | 10 | 40,330
UPPER EXPLORERLAND REG'L HA | 134 W. GREENE ST, POSTVILLE, IA 52162 | 16 | 57,835
SOWESTERN IDAHO COOP | 1108 WEST FINCH DR, NAMPA, ID 83651 | 15 | 91,589
IDAHO HSG AND FIN ASSOC | 565 W MYRTLE ST, BOISE, ID 83707 | 49 | 248,984
CHICAGO HSG AUTH | 60 EAST VAN BUREN ST, 11TH FL, CHICAGO, IL 60605 | 604 | 6,773,306
HSG AUTH OF COOK COUNTY | 310 SO MICHIGAN AVE, 15TH FL, CHICAGO, IL 60604 | 29 | 283,393
INDIANAPOLIS HSG AGENCY | 1919 N. MERIDIAN ST, INDIANAPOLIS, IN 46202 | 87 | 579,667
INDIANA HSG & COMMUNITY | 30 SO. MERIDIAN ST, STE 1000, INDIANAPOLIS, IN 46204 | 96 | 529,789
ECKAN | P.O. BOX 100, OTTAWA, KS 66067 | 0 | 1,400
COVINGTON HSG AUTH | 638 MADISON AVE, COVINGTON, KY 41011 | 35 | 209,958
JEFFERSON PARISH HSG AUTH | 1718 BETTY ST, MARRERO, LA 70072 | 99 | 638,388
CHELSEA HSG AUTH | 54 LOCKE ST, CHELSEA, MA 02150 | 6 | 73,619
FRAMINGHAM HSG AUTH | 1 JOHN J. BRADY DR, FRAMINGHAM, MA 01702 | 5 | 62,562
SOMERVILLE HSG AUTH | 30 MEMORIAL RD, SOMERVILLE, MA 02145 | 4 | 61,665
WICOMICO COUNTY HSG AUTH | 911 BOOTH ST, SALISBURY, MD 21801 | 10 | 62,154
HSG AUTH PRINCE GEORGE'S COUNTY | 9400 PEPPERCORN PLACE, STE 200, LARGO, MD 20774 | 183 | 2,248,154
HOWARD COUNTY HSG COMMISSION | 6751 COLUMBIA GATEWAY DR, 3RD FL, COLUMBIA, MD 21046 | 27 | 278,715
PORT HURON HSG COMMISSION | 905 SEVENTH ST, PORT HURON, MI 48060 | 32 | 205,416
VIRGINIA HRA | P.O. BOX 1146, VIRGINIA, MN 55792 | 16 | 64,090
ST. LOUIS HSG AUTH | 4100 LINDELL BLVD, ST. LOUIS, MO 63108 | 86 | 605,696
ST. LOUIS COUNTY HSG AUTH | 8865 NATURAL BRIDGE, ST. LOUIS, MO 63121 | 51 | 342,608
ST. CLAIR COUNTY HSG AUTH | P.O. BOX 125, APPLETON CITY, MO 64724 | 25 | 131,339
HSG AUTH OF WINSTON-SALEM | 500 WEST FOURTH, STE 300, WINSTON-SALEM, NC 27101 | 50 | 333,218
MORTON COUNTY HSG AUTH | 1500 3RD AVE NW, MANDAN, ND 58554 | 10 | 38,979
COOPERSTOWN HSG AND | P.O. BOX 208, COOPERSTOWN, ND 58425 | 7 | 22,041
OMAHA HSG AUTH | 540 SO 27TH ST, OMAHA, NE 68105 | 51 | 356,144
SAN JUAN COUNTY HSG AUTH | 7450 E. MAIN ST, STE C, FARMINGTON, NM 87402 | 14 | 61,402
CITY OF LAS VEGAS HSG AUTH | 420 N. 10TH ST, LAS VEGAS, NV 89125 | 100 | 938,452
COUNTY OF CLARK HSG AUTH | 5390 EAST FLAMINGO RD, LAS VEGAS, NV 89122 | 246 | 2,069,970
NEW YORK CITY HSG AUTH | 90 CHURCH ST, 9TH FL, NEW YORK, NY 10007 | 31 | 300,615
ALBANY HSG AUTH | 200 SOUTH PEARL, ALBANY, NY 12202 | 75 | 421,998
HSG AUTH OF MECHANICVILLE | HARRIS AVE, MECHANICVILLE, NY 12118 | 21 | 121,584
NEW YORK STATE HSG FIN | 25 BEAVER ST, RM 732, NEW YORK, NY 10004 | 75 | 865,365
CUYAHOGA METRO HSG AUTH | 1441 WEST 25TH ST, CLEVELAND, OH 44113 | 110 | 791,428
CINCINNATI METRO HSG AUTH | 16 WEST CENTRAL PKWY, CINCINNATI, OH 45210 | 13 | 86,841
AKRON METRO HSG AUTH | 100 W CEDAR ST, AKRON, OH 44307 | 9 | 59,006
TULSA HSG AUTH | P.O. BOX 6369, TULSA, OK 74148 | 230 | 1,460,574
MUSKOGEE HSG AUTH | 220 N 40TH, MUSKOGEE, OK 74401 | 32 | 138,850
HSG AUTH OF JACKSON COUNTY | 2231 TABLE ROCK RD, MEDFORD, OR 97501 | 60 | 353,843
JOSEPHINE HSG COMMUNITY | P.O. BOX 1630, GRANTS PASS, OR 97528 | 10 | 48,563
CENTRAL OREGON REGIONAL HSG | 405 SW 6TH ST, REDMOND, OR 97756 | 13 | 81,880
HSG AUTH OF CITY OF PITTSBURGH | 200 ROSS ST, PITTSBURGH, PA 15219 | 20 | 127,609
PHILADELPHIA HSG AUTH | 12 SO 23RD ST, PHILADELPHIA, PA 19103 | 59 | 538,424
MUNICIPALITY OF YAUCO | P.O. BOX 6270, SAN JUAN, PR 00698 | 70 | 353,318
PUERTO RICO DEPT OF HSG | P.O. BOX 21365, SAN JUAN, PR 00928 | 284 | 1,800,843
CITY OF SPARTANBURG H/A | P.O. BOX 2828, SPARTANBURG, SC 29304 | 24 | 145,006
HA OF SOUTH CAROLINA REG NO 3 | P.O. BOX 1326, BARNWELL, SC 29812 | 42 | 239,040
KNOXVILLE COMM DEVEL CORP | P.O. BOX 3550, KNOXVILLE, TN 37927 | 81 | 435,676
METRO DEVELOPMNT & HSG | 701 SO SIXTH ST, NASHVILLE, TN 37202 | 61 | 373,471
SAN ANTONIO HSG AUTH | 818 S. FLORES ST, SAN ANTONIO, TX 78295 | 82 | 541,935
HSG AUTH OF DALLAS | 3939 N. HAMPTON RD, DALLAS, TX 75212 | 86 | 831,592
MERCEDES HSG AUTH | 1098 W. EXPRESSWAY 83, MERCEDES, TX 78570 | 48 | 253,893
TEXAS CITY HSG AUTH | 817 SECOND AVE NO, TEXAS CITY, TX 77590 | 53 | 400,022
HSG AUTH OF ODESSA | 124 E. SECOND ST, ODESSA, TX 79761 | 19 | 118,895
MARSHALL HSG AUTH | 1401 POPLAR ST, MARSHALL, TX 75670 | 49 | 270,440
DALLAS COUNTY HSG ASSISTANCE | 2377 N. STEMMONS FRWY, STE 200-LB 16, DALLAS, TX 75207 | 10 | 76,061
NEWPORT NEWS REDEV'T & HA | P.O. BOX 797, NEWPORT NEWS, VA 23607 | 41 | 288,094
HOPEWELL REDEV'T & HSG AUTH | 350 E. POYTHRESS ST, HOPEWELL, VA 23860 | 98 | 581,387
VIRGINIA HSG DEV'T & HSG AUTH | 601 SOUTH BELVIDERE ST, RICHMOND, VA 23220 | 15 | 109,922
ST ALBANS HSG AUTH | 65 MAIN ST, BURLINGTON, VT 05401 | 10 | 67,927
KELSO HSG AUTH | 1415 S 10TH, KELSO, WA 98626 | 25 | 126,592
HA OF THE CITY OF MILWAUKEE | 809 NORTH BRDWAY, MILWAUKEE, WI 53201 | 6 | 36,560
DODGEVILLE HSG AUTH | 100 E. FOUNTAIN ST, DODGEVILLE, WI 53533 | 14 | 64,636
KENOSHA HSG AUTH | 625 52ND ST, KENOSHA, WI 53140 | 4 | 25,664
Total for Terminations and Optouts |  | 6,139 | $51,875,373
Total for Housing Tenant Protection |  | 12,718 | $105,278,899
HOPE VI Vouchers:
HSG AUTH OF ATLANTA, GA | 230 JOHN WESLEY DOBBS AVE, NE, ATLANTA, GA 30303 | 528 | 2,582,158
HSG AUTH OF PORTLAND | 135 SW ASH ST, PORTLAND, OR 97204 | 13 | 29,984
EASTON HSG AUTH | 157 SO FOURTH ST, EASTON, PA 18044 | 165 | 393,929
CITY OF SPARTANBURG HSG AUTH | P.O. BOX 2828, SPARTANBURG, SC 29304 | 114 | 336,759
KINGSPORT HSG AUTH | P.O. BOX 44, KINGSPORT, TN 37662 | 87 | 271,528
HSG AUTH OF BEAUMONT | 4925 CONCORD RD, BEAUMONT, TX 77708 | 53 | 102,885
Total for Hope VI |  | 960 | $3,717,243
Grand Total |  | 25,292 | $149,146,013

[FR Doc. E8-2087 Filed 2-5-08; 8:45 am]

BILLING CODE 4210-67-P